DEPARTMENT OF LABOR

Employment and Training Administration

[TA-W-61,368]

Kraft Foods Global, Inc., Posts Cereals Division Currently Known as Post Foods, LLC, Division of Ralcorp, Battle Creek, MI; Amended Certification Regarding Eligibility To Apply for Worker Adjustment Assistance and Negative Determination Regarding Eligibility To Apply for Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Negative Determination Regarding Eligibility to Apply for Alternative Trade Adjustment Assistance on June 5, 2007, applicable to workers of Kraft Foods Global, Inc., Post Cereals Division, Battle Creek, Michigan. The notice was published in the Federal Register on June 22, 2007 (72 FR 34483).

At the request of the State agency, the Department reviewed the certification for workers of the subject firm. The workers are engaged in the production of breakfast cereal.

New information shows that as the result of a change in ownership on August 4, 2008, Kraft Foods Global, Inc., Post Cereals Division is currently known as Posts Foods, LLC, Division of Ralcorp.

Accordingly, the Department is amending this certification to show that Kraft Foods Global, Inc., Post Cereals Division is currently known as Post Foods, LLC, Division of Ralcorp.

The amended notice applicable to TA-W-61,368 is hereby issued as follows:

All workers of Kraft Foods Global, Inc., Post Cereals Division, currently known as Post Foods, LLC, Division of Ralcorp, Battle Creek, Michigan, who became totally or partially separated from employment on or after April 12, 2006, through June 5, 2009, are eligible to apply for adjustment assistance under Section 223 of the Trade Act of 1974.

I further determine that all workers of Kraft Foods Global, Inc., Post Cereals Division, currently known as Post Foods, LLC, Division of Ralcorp, Battle Creek, Michigan, are denied eligibility to apply for alternative trade adjustment assistance under Section 246 of the Trade Act of 1974.

Signed at Washington, DC this 11th day of August 2008.
Linda G. Poole,
Certifying Officer, Division of Trade Adjustment Assistance.

[FR Doc. E8-19184 Filed 8-18-08; 8:45 am]

BILLING CODE 4510-FN-P